DEPARTMENT OF TRANSPORTATION

Federal Motor Carrier Safety Administration

[Docket No. FMCSA-2013-0051]

Agency Information Collection Activities; New Information Collection Request: Commercial Motor Vehicle Marking Requirements

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval, and invites public comment. This ICR will enable FMCSA to document the burden associated with the marking regulations codified in 49 CFR 390.21, “Marking of Self-Propelled CMVs and Intermodal Equipment.” These regulations require marking of vehicles and intermodal equipment by motor carriers, freight forwarders and intermodal equipment providers (IEPs) engaging in interstate transportation. On April 11, 2013, FMCSA published a Federal Register notice (78 FR 21704) allowing for a 60-day comment period on this ICR. The FMCSA received no comments in response to this notice.

DATES: Please send your comments by September 3, 2013. OMB must receive your comments by this date in order to act on the ICR.

ADDRESSES: All comments should reference Federal Docket Management System (FDMS) Docket Number FMCSA-2013-0051. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW., Washington, DC 20503.

FOR FURTHER INFORMATION CONTACT: Kenneth Rodgers, Chief, Commercial Enforcement and Investigations Division, Office of Enforcement and Compliance, U.S. Department of Transportation, Federal Motor Carrier Safety Administration, 1200 New Jersey Avenue SE., Washington, DC, 20590-0001. Telephone: 202-366-0073; Email: kenneth.rodgers@dot.gov. Office hours are from 9 a.m. to 5 p.m., Monday through Friday, except Federal Holidays.

SUPPLEMENTARY INFORMATION: Title: Marking of Self-Propelled CMVs and Intermodal Equipment

OMB Control Number: 2126-XXXX.

Type of Request: New information collection.

Respondents: Freight carrying commercial motor carriers, passenger carrying commercial motor carriers, and intermodal equipment providers.

Estimated Number of Respondents: 191,000.

Estimated Time per Response: 26 minutes [12 minutes to affix DOT Number + 14 minutes for affixing a carrier's name = 26].

Expiration Date: N/A. This is a new information collection.

Frequency of Response: On occasion.

Estimated Total Annual Burden: 655,000 [620,000 hours for freight carrying commercial carriers + 26,000 hours for passenger carrying commercial motor carriers + 9,000 hours for intermodal equipment providers (IEPs) = 655,000].

Background: The Secretary of Transportation (Secretary) is authorized to require marking of vehicles and intermodal equipment by motor carriers, freight forwarders and IEPs engaging in interstate transportation under 49 U.S.C. 31133(a)(8) and 49 U.S.C. 31133(a)(10). The Secretary has delegated authority pertaining to the marking of commercial motor vehicles (CMVs) pursuant to 49 CFR 1.87(f). The Agency's regulation governing the marking of CMVs is at 49 CFR 390.21.

Vehicle marking requirements are intended to ensure that FMCSA, the National Transportation Safety Board (NTSB), and State safety officials are able to identify motor carriers and correctly assign responsibility for regulatory violations during inspections, investigations, compliance reviews, and crash studies. These marking requirements will also provide the public with beneficial information that could also assist in identifying carriers for the purposes of commerce, complaints or emergency notification. The marking requirements apply to motor carriers, freight forwarders and IEPs engaging in interstate transportation. The Agency does not require a specific method of marking as long as the marking complies with FMCSA's regulations.

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued on: July, 24, 2013.
G. Kelly Leone,
Associate Administrator, Office of Research and Information Technology and Chief Information Officer.

[FR Doc. 2013-18533 Filed 7-31-13; 8:45 am]

BILLING CODE 4910-EX-P